DEPARTMENT OF ENERGY

Federal Energy Regulatory Commission

[Docket No. RP00-209-000]

Transcontinental Gas Pipe Line Corporation; Notice of Proposed Changes In FERC Gas Tariff

March 7, 2000.

Take notice that on March 1, 2000, Transcontinental Gas Pipe Line Corporation (Transco), tendered for filing to become part of its FERC Gas Tariff, Third Revised Volume No. 1, certain revised tariff sheets enumerated in Appendix A attached to the filing.

Transco states that the instant filing is submitted pursuant to Section 38 of the General Terms and Conditions of Transco's FERC Gas Tariff which provides that Transco will file, to be effective each April 1, a redetermination of its fuel retention percentages applicable to transportation and storage rate schedules. The derivations of the revised fuel retention percentages included therein are based on Transco's estimate of gas required for operations (GRO) for the forthcoming annual period April 2000 through March 2001 plus the balance accumulated in the Deferred GRO Account at January 31, 2000. Transco has included an adjustment to the calculation of the deferred GRO for the annual period April 1999 through March 2000 in order to comply with the Commission's February 23, 2000 order (Order) in Transco's Docket No. TM99-6-29-000.

Also included in the filing is an alternate sheet that reflects a decrease in the fuel retention percentage applicable to the firm storage service provided by Transco under Rate Schedules LG-A, LNG, LNG-R and LG-S. The fuel percentages on the alternate sheet reflects a large under recovery in Transco's Deferred GRO Account amortized over a three year period, along with the estimate of the GRO for the forthcoming annual period.

Included in Appendices B and B-1 attached to the filing are the workpapers supporting the derivation of the revised fuel retention factors. Appendix C contains workpapers supporting the recalculation of the Deferred GRO Account balance as of January 31, 2000.

Transco states that copies of the filing are being mailed to its affected customers and interested State Commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-5986 Filed 3-10-00; 8:45 am]

BILLING CODE 6717-01-M